INTERNATIONAL TRADE COMMISSION

[Investigation No. 731-TA-1719 (Final)]

Paper File Folders From Sri Lanka; Determination

On the basis of the record ¹ developed in the subject investigation, the United States International Trade Commission (“Commission”) determines, pursuant to the Tariff Act of 1930 (“the Act”), that an industry in the United States is materially injured by reason of imports of paper file folders from Sri Lanka, provided for in subheading 4820.30.00 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 90 FR 38460 (August 8, 2025).

Background

The Commission instituted this investigation effective October 21, 2024, following receipt of a petition filed with the Commission and Commerce by the Coalition of Domestic Folder Manufacturers, Hastings, Minnesota, and Naperville, Illinois. The Commission scheduled the final phase of the investigation following notification of a preliminary determination by Commerce that imports of paper file folders from Sri Lanka were being sold at LTFV within the meaning of § 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of June 4, 2025 (90 FR 23708). The public hearing in connection with the investigation, originally scheduled for August 5, 2025, was cancelled.³

³ 90 FR 37886 (August 6, 2025).

The Commission made this determination pursuant to § 735(b) of the Act (19 U.S.C. 1673d(b)). It completed and filed its determination in this investigation on September 22, 2025. The views of the Commission are contained in USITC Publication 5668 (September 2025), entitled Paper File Folders from Sri Lanka: Investigation No. 731-TA-1719 (Final).

By order of the Commission.
Issued: September 22, 2025.
Sharon Bellamy,
Supervisory Hearings and Information Officer.

[FR Doc. 2025-18524 Filed 9-23-25; 8:45 am]

BILLING CODE 7020-02-P